INTERNATIONAL TRADE COMMISSION

[Investigation No. 1205-8]

Certain Footwear: Recommendations for Modifying the Harmonized Tariff Schedule of the United States

AGENCY: United States International Trade Commission.

ACTION: Change in date for transmitting final recommendations to the President.

SUMMARY: The Commission has changed the date on which it intends to report its final recommendations to the President in this matter from July 12, 2010, to August 9, 2010, to allow more time to consider the views submitted by Federal agencies and other interested parities.

DATES: August 9, 2010—Transmittal of final recommendations to the President.

ADDRESSES: All Commission offices, including the Commission's hearing rooms, are located in the United States International Trade Commission Building, 500 E Street, SW., Washington, DC. The public record for this investigation may be viewed on the Commission's electronic docket (EDIS) at http://www.usitc.gov/secretary/edis.htm.

FOR FURTHER INFORMATION CONTACT: Donnette Rimmer, Nomenclature Analyst (donnette.rimmer@usitc.gov, 202-205-3031) or Janis L. Summers, Attorney-Advisor (janis.summers@usitc.gov, 202-205-2605). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: Notice of institution of the investigation and opportunity to comment on proposed recommendations was published in the Federal Register on April 13, 2010 (75 FR 18882). The period for filing written submissions closed on June 25, 2010.

By order of the Commission.
Issued: July 13, 2010.
Marilyn R. Abbott,
Secretary to the Commission.

[FR Doc. 2010-17467 Filed 7-16-10; 8:45 am]

BILLING CODE 7020-02-P